FEDERAL COMMUNICATIONS COMMISSION

[FR ID 254132]

Open Commission Meeting Thursday, October 17, 2024

October 10, 2024.

FCC To Hold Open Commission Meeting Thursday, October 17, 2024

The Federal Communications Commission will hold an Open Meeting on the subjects listed below on Thursday, October 17, 2024, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Wireless Telecomunications | Title: Achieving 100% Wireless Handset Model Hearing Aid Compatibility (WT Docket No. 23-388). Summary: The Commission will consider a Report and Order adopting a 100% hearing aid compatibility requirement for all wireless handset models offered for sale or use in the United States and implementation provisions related to this requirement.
2 | Wireline Competition | Title: Implementation of the National Suicide Hotline Act of 2018 (WC Docket No. 18-336). Summary: The Commission will consider a Third Report and Order and Third Further Notice of Proposed Rulemaking that would adopt rules requiring wireless providers to implement a georouting solution for 988 calls to ensure that the 988 Suicide & Crisis Lifeline can connect callers to geographically appropriate crisis centers based on the caller's general location. The Third Further Notice would also propose and seek comment on requiring covered text providers to support georouting for covered 988 text messages.
3 | Media | Title: Restricted Adjudicatory Matter. Summary: The Commission will consider a restricted adjudicatory matter from the Media Bureau.
4 | CONNECT2HEALTH Task Force | Summary: The Commission will receive a presentation from the Connect2Health Task Force on updates to maternal health data in the Mapping Broadband Health in America platform.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2024-23992 Filed 10-17-24; 8:45 am]

BILLING CODE 6712-01-P